DEPARTMENT OF COMMERCE

International Trade Administration

[A-475-818]

Certain Pasta From Italy: Initiation and Preliminary Results of Antidumping Duty Changed Circumstances Review

AGENCY: Enforcement and Compliance, International Trade Administration, Department of Commerce.

SUMMARY: In response to a request from P.A.P. S.R.L. (PAP SRL), a producer/exporter of certain pasta from Italy, and pursuant to section 751(b) of the Tariff Act of 1930, as amended (the Act), 19 CFR 351.216 and 351.22l(c)(3)(ii), the Department of Commerce (the Department) is initiating a changed circumstances review (CCR) of the antidumping duty (AD) order on certain pasta from Italy with regard to PAP SRL. Based on the information received, we preliminarily determine that PAP SRL is the successor-in-interest to P.A.P. SNC Di Pazienza G. B. & C (PAP SNC) for purposes of determining AD liability. Interested parties are invited to comment on these preliminary results.

DATES: Effective Date: June 12, 2015.

FOR FURTHER INFORMATION CONTACT: Cindy Robinson, AD/CVD Operations, Office III, Enforcement and Compliance, International Trade Administration, U.S. Department of Commerce, 14th Street and Constitution Avenue NW., Washington, DC 20230; telephone: (202) 482-3797.

SUPPLEMENTARY INFORMATION:

Background

On July 24, 1996, the Department published in the Federal Register the AD duty order on certain pasta from Italy.¹ On April 22, 2015, PAP SRL requested that the Department conduct a CCR under section 751(b)(1) of the Act and 19 CFR 351.216 (b) to determine that it is the successor-in-interest to PAP SNC,² and assign it the cash deposit rate of its predecessor, PAP SNC. PAP SRL based its request on the claim that it operates as the same business entity as PAP SNC.³

¹ See Notice of Antidumping Duty Order and Amended Final Determination of Sales at Less Than Fair Value: Certain Pasta From Italy, 61 FR 38547 (July 24, 1996) (Pasta Italy Order).

² See PAP SRL's request for Changed-Circumstances Review dated April 22, 2015 (CCR Request).

³ Id., at 2-4.

We received no comments from interested parties.

Scope of the Order

Imports covered by the order are shipments of certain non-egg dry pasta. The merchandise subject to review is currently classifiable under items 1901.90.90.95 and 1902.19.20 of the Harmonized Tariff Schedule of the United States (HTSUS). Although the HTSUS subheadings are provided for convenience and customs purposes, the written description of the merchandise subject to the order is dispositive.⁴

⁴ For a full description of the scope of the order, see the memorandum titled “Initiation and Preliminary Results of Changed Circumstances Review: Certain Pasta from Italy” from Christian Marsh, Deputy Assistant Secretary for Antidumping and Countervailing Duty Operations, to Ronald K. Lorentzen, Acting Assistant Secretary for Enforcement and Compliance, dated concurrently with this notice (Preliminary Decision Memorandum).

Initiation and Issuance of Preliminary Results of Changed Circumstances Review

Pursuant to section 751(b)(1) of the Act and 19 CFR 351.216(d), the Department will conduct a CCR upon receipt of a request from an interested party or receipt of information concerning an AD order which shows changed circumstances sufficient to warrant a review of the order.

As noted above in the “Background” section, we received information indicating that in January 2015, PAP SNC's legal form was changed from a Società in nome collettivo, or SNC, which is a form of partnership, to a Società a responsabilità limitata, or SRL, which is a form of limited-liability corporation. The Department determines that the information submitted by PAP SRL constitutes sufficient evidence to warrant a CCR of this order.⁵ Therefore, in accordance with section 751(b)(1) of the Act and 19 CFR 351.216(d), we are initiating a CCR based upon the information contained in PAP SRL's submission.⁶

⁵ See 19 CFR 351.216(d).

⁶ See, generally, CCR Request.

19 CFR 351.221(c)(3)(ii) permits the Department to combine the notice of initiation of a CCR and the notice of preliminary results if the Department concludes that expedited action is warranted. In this instance, because we have the information necessary on the record to make a preliminary finding, we find that expedited action is warranted, and are combining the notice of initiation and the notice of preliminary results in accordance with 19 CFR 351.221(c)(3)(ii).⁷

⁷ See, e.g., Polyethylene Terephthalate Film, Sheet, and Strip From the Republic of Korea: Initiation and Preliminary Results of Antidumping Duty Changed Circumstances Review, 76 FR 27005 (May 10, 2011) (PET Film from Korea); Ball Bearings and Parts Thereof from Japan: Initiation and Preliminary Results of Changed-Circumstances Review, 71 FR 14679 (March 23, 2006); Fresh and Chilled Atlantic Salmon from Norway; Initiation and Preliminary Results of Changed Circumstances Antidumping Duty Administrative Review, 63 FR 50880 (September 23, 1998).

Methodology

In making a successor-in-interest determination, the Department examines several factors, including but not limited to, changes in: (1) Management; (2) production facilities; (3) supplier relationships; and (4) customer base.⁸ While no single factor or combination of these factors will necessarily provide a dispositive indication of a successor-in-interest relationship, the Department will generally consider the new company to be the successor to the previous company if the new company's resulting operation is essentially similar to that of its predecessor.⁹ Thus, if the evidence demonstrates that, with respect to the production and sale of the subject merchandise, the new company operates as the same business entity as the former predecessor company, the Department will afford the new company the same AD treatment as its predecessor, i.e., will assign the new company the same cash deposit rate of its predecessor.¹⁰

⁸ See, e.g., Pressure Sensitive Plastic Tape from Italy: Preliminary Results of Antidumping Duty Changed Circumstances Review, 75 FR 8925 (February 26, 2010), unchanged in Pressure Sensitive Plastic Tape From Italy: Final Results of Antidumping Duty Changed Circumstances Review, 75 FR 27706 (May 18, 2010); Brake Rotors From the People's Republic of China: Final Results of Changed Circumstances Antidumping Duty Administrative Review, 70 FR 69941 (November 18, 2005), citing Brass Sheet and Strip from Canada: Final Results of Antidumping Duty Administrative Review, 57 FR 20460 (May 13, 1992); and Structural Steel Beams from Korea: Preliminary Results of Changed Circumstances Antidumping Duty Administrative Review, 66 FR 15834 (March 21, 2001).

⁹ See, e.g., PET Film from Korea, 76 FR at 27006; Industrial Phosphoric Acid from Israel: Final Results of Antidumping Duty Changed Circumstances Review, 59 FR 6944, 6945 (February 14, 1994); Brass Sheet and Strip from Canada: Final Results of Antidumping Duty Administrative Review, 57 FR 20460 (May 13, 1992) at Comments 1 and 2; and Certain Lined Paper Products From India: Notice of Final Results of Antidumping Duty Changed Circumstances Review, 80 FR 183873 (April 6, 2015).

¹⁰ See Fresh and Chilled Atlantic Salmon From Norway; Final Results of Changed Circumstances Antidumping Duty Administrative Review, 64 FR 9979, 9980 (March 1, 1999).

For a full description of the methodology underlying our conclusions, see Preliminary Decision Memorandum.¹¹ The Preliminary Decision Memorandum is on file electronically via Enforcement and Compliance's Antidumping and Countervailing Duty Centralized Electronic Service System (ACCESS). ACCESS is available to registered users at http://access.trade.gov and it is available to all parties in the Central Records Unit, Room 7046 of the main Department of Commerce building. In addition, a complete version of the Preliminary Decision Memorandum can be accessed directly on the Internet at http://enforcement.trade.gov/frn/. The signed Preliminary Decision Memorandum and the electronic versions of the Preliminary Decision Memorandum are identical in content.

¹¹ See Preliminary Decision Memorandum.

Preliminary Results of the Changed Circumstances Review

Based on the evidence reviewed, we preliminarily determine that PAP SRL is the successor-in-interest to PAP SNC. Specifically, we find that the change of the company's legal form from SNC to SRL resulted in no significant changes to management, production facilities, supplier relationships, and customers with respect to the production and sale of the subject merchandise. Thus, PAP SRL operates essentially as the same business entity as PAP SNC with respect to the subject merchandise.

If the Department adopts these preliminary results in the final results, PAP SRL will be assigned the AD cash deposit rate currently assigned to PAP SNC with respect to the subject merchandise (i.e., zero percent ad valorem),¹² we will instruct Customs and Border Protection (CBP) to suspend liquidation of entries of certain pasta from Italy made by PAP SRL, effective on the publication date of the final results, at the cash deposit rate that is currently assigned to PAP SNC.¹³

¹² See Notice of Implementation of Determination Under Section 129 of the Uruguay Round Agreements Act: Stainless Steel Plate in Coils from Belgium, Steel Concrete Reinforcing Bars from Latvia, Purified Carboxymethylcellulose from Finland, Certain Pasta from Italy, Purified Carboxymethylcellulose from the Netherlands, Stainless Steel Wire Rod from Spain, Granular Polytetrafluoroethylene Resin from Italy, and Stainless Steel Sheet and Strip in Coils from Japan, 77 FR 36257 (June 18, 2012).

¹³ See Certain Lined Paper Products from India: Final Results of Antidumping Duty Administrative Review; 2010-2011, 78 FR 22232 (April 15, 2013).

Public Comment

Interested parties may submit case briefs and/or written comments not later than 30 days after the date of publication of this notice.¹⁴ Rebuttal briefs, limited to issues raised in the case briefs, may be filed no later than five days after the deadline for filing case briefs.¹⁵ Parties who submit case or rebuttal briefs are encouraged to submit with each argument: (1) A statement of the issue; (2) a brief summary of the argument; and (3) a table of authorities. All comments are to be filed electronically using ACCESS, and must also be served on interested parties.¹⁶ An electronically filed document must be received successfully in its entirety by ACCESS by 5:00 p.m. Eastern Standard Time on the day it is due.¹⁷

¹⁴ See 19 CFR 351.309(c)(2).

¹⁵ See 19 CFR 351.309(d).

¹⁶ See 19 CFR 351.303(b) and (f).

¹⁷ See 19 CFR 351.303(b).

Interested parties that wish to request a hearing, or to participate if one is requested, must submit a written request to the Assistant Secretary for Enforcement and Compliance, filed electronically via ACCESS, within 30 days after the date of publication of this notice.¹⁸ Requests should contain the party's name, address, and telephone number, the number of participants, and a list of the issues to be discussed. Oral presentations will be limited to issues raised in the briefs. If a request for a hearing is made, we will inform parties of the scheduled date for the hearing which will be held at the U.S. Department of Commerce, 14th Street and Constitution Avenue NW., Washington, DC 20230, at a time and location to be determined.¹⁹ Parties should confirm by telephone the date, time, and location of the hearing.

¹⁸ See 19 CFR 351.310(c).

¹⁹ See 19 CFR 351.310.

Consistent with 19 CFR 351.216(e), we will issue the final results of this CCR no later than 270 days after the date on which this review was initiated, or within 45 days if all parties agree to our preliminary finding.

We are issuing and publishing this finding and notice in accordance with sections 751(b)(l) and 777(i)(l) of the Act and 19 CFR 351.216 and 351.221(c)(3)(ii).

Dated: June 5, 2015.
Ronald K. Lorentzen,
Acting Assistant Secretary for Enforcement and Compliance.

Appendix

List of Topics Discussed in the Decision Memorandum for Initiation and Preliminary Results of Changed Circumstances Review: Certain Pasta From Italy

I. Summary

II. Background

III. Scope of the Order

IV. Initiation and Preliminary Results of Changed Circumstances Review

V. Discussion of Methodology

VI. Analysis

A. Management

B. Production Facilities

C. Supplier Relationship

D. Customer Base

[FR Doc. 2015-14450 Filed 6-11-15; 8:45 am]

BILLING CODE 3510-DS-P